DEPARTMENT OF HOMELAND SECURITY

Directorate of Information Analysis and Infrastructure Protection (IAIP); Open Meeting of National Infrastructure Advisory Council (NIAC)

AGENCY: Directorate of Information Analysis and Infrastructure Protection, Department of Homeland Security.

ACTION: Notice.

SUMMARY: The National Infrastructure Advisory Council (NIAC) will meet on Tuesday, January 13, 2004, from 3 p.m. until 6 p.m. in Room 207 of the Washington Convention Center, 801 Mount Vernon Place, NW., Washington, DC. The meeting will be open to the public. Limited seating will be available. Reservations are not accepted.

The NIAC advises the President of the United States on the security of information systems for critical infrastructure supporting other sectors of the economy, including banking and finance, transportation, energy, manufacturing, and emergency government services. At this meeting, the NIAC will be briefed on the status of several Working Group activities that the Council undertook at its last meeting.

DATES: The NIAC will meet Tuesday, January 13, 2004, from 3 p.m. until 6 p.m.

ADDRESSES: The NIAC will meet in Room 207 of the Washington Convention Center, 801 Mount Vernon Place, NW., Washington, DC. Written comments may be submitted at any time before or after the meeting. However, to facilitate distribution of public presentation materials to NIAC members, the Council suggests that presenters forward the public presentation materials, ten days prior to the meeting date, to the following address: Ms. Nancy J. Wong, Infrastructure Coordination Division, Directorate of Information Analysis and Infrastructure Protection, U.S. Department of Homeland Security, 14th Street & Constitution Avenue, NW., Room 6073, Washington, DC 20230.

FOR FURTHER INFORMATION CONTACT: Nancy J. Wong, NIAC Designated Federal Officer, telephone 202-482-7488.

SUPPLEMENTARY INFORMATION: Notice of these meetings is given under the Federal Advisory Committee Act, 5 U.S.C. App. 2.

Agenda of Subcommittee Meeting on January 13, 2004

I. Opening of Meeting: Nancy J. Wong, U.S. Department of Homeland Security (DHS)/Designated Federal Officer, NIAC.

II. Roll Call of Members: NIAC Staff.

III. Conflict of Interest and the Special Council Government Employee Ethics Training Session: Robert Coyle; and Nancy Baumgartner, DHS/Office of General Counsel.

IV. Opening Remarks: Lt. Gen. Frank Libutti (USMC, ret.), Under Secretary for Information Analysis and Infrastructure Protection, DHS, Homeland Security for Infrastructure Protection; Richard K. Davidson, Chairman, President & CEO, Union Pacific Corporation; Chairman, NIAC; and John T. Chambers, President & CEO, Cisco Systems, Inc.; Vice Chairman, NIAC.

V. Report of the Working Group on Cyber Vulnerability Disclosure Guidelines: Vice Chairman Chambers; and John W. Thompson, Chairman & CEO, Symantec Corporation; NIAC Member.

VI. Status Reports on Pending Initiatives:

a. Evaluation and Enhancement of Information Sharing and Analysis: Thomas E. Noonan, Chairman, President & CEO, Internet Security Systems, Inc.; NIAC Member.

b. Regulatory Guidance/Best Practices for Enhancing Security of Critical Infrastructure Industries: Karen L. Katen, President, Pfizer Global Pharmaceuticals and Exec. V.P., Pfizer Inc.; NIAC Member.

c. Hardening the Internet: George H. Conrades, Chairman & CEO, Akamai Technologies; NIAC Member.

d. Prioritization of Cyber Vulnerabilities: Martin G. McGuinn, Chairman & CEO, Mellon Financial Corporation; NIAC Member.

VII. Discussion of NIAC on the Draft of the Sector Interdependencies/Risk Assessment Guidance Working Report: Martin G. McGuinn, Chairman & CEO, Mellon Financial Corporation; NIAC Member.

VIII. Adoption of NIAC Comments: NIAC Members.

IX. New Business: Chairman Davidson; NIAC Members.

X. Adjournment.

Procedural

These meetings are open to the public. Please note that the meetings may close early if all business is finished. At the discretion of the Chair, members of the public may make oral presentations during the meetings. If you would like to make an oral presentation at a meeting, please notify the Designated Federal Officer and submit written material. If you would like a copy of your material distributed to each member of the Committee in advance of a meeting, please submit 25 copies to the Designed Federal Officer (see ADDRESSES and DATES).

Information on Services for Individuals With Disabilities

For information on facilities or services for individuals with disabilities, or to request special assistance at the meeting, telephone the Designated Federal Officer as soon as possible.

Dated: December 17, 2003.
Nancy J. Wong,
Designated Federal Officer for NIAC.

[FR Doc. 03-31656 Filed 12-23-03; 8:45 am]

BILLING CODE 4410-10-P